DEPARTMENT OF ENERGY

Federal Energy Regulatory Commission

[Project No. 14678-000]

Liquid Sun Hydro, LLC; Notice of Preliminary Permit Application Accepted for Filing and Soliciting Comments, Motions To Intervene, and Competing Applications

On May 1, 2015, the Liquid Sun Hydro, LLC, filed an application for a preliminary permit, pursuant to section 4(f) of the Federal Power Act (FPA), proposing to study the feasibility of the Bear Creek Hydroelectric Project (Bear Creek Project or project) to be located on Bear Creek, near Concrete, Skagit County, Washington. The sole purpose of a preliminary permit, if issued, is to grant the permit holder priority to file a license application during the permit term. A preliminary permit does not authorize the permit holder to perform any land-disturbing activities or otherwise enter upon lands or waters owned by others without the owners' express permission.

The proposed project would consist of two developments: The Upper Bear Creek and the Lower Bear Creek, using some of the existing facilities from Puget Sound Power and Light Co.'s Bear Creek Project (P-3286) which was surrendered in 1983.

Upper Bear Creek Development

The Upper Bear Creek development would consist of the following existing facilities: (1) A reservoir with a surface area of one acre and storage capacity of two acre-feet; (2) a 100-foot-long, 6-foot-high diversion with an integrated 30-foot-long, 6-foot-high ungated overflow spillway, (3) a powerhouse containing a 250-kilowatt (kW) Francis turbine; (4) an 8-foot-wide tailrace; and (5) a total of 1,850 feet of access roads. All of these facilities will be renovated or repaired. The Upper Bear Creek development would also consist of the following new facilities: (1) A 400-foot-long, 36-inch-diameter above-ground steel penstock routed through the existing penstock alignment; (2) a 250-kW generator; (3) a 350-foot-long, 12.5-kilovolt (kV) three-phase transmission line interconnecting with the existing Bear Creek Project transmission line; and (4) appurtenant facilities. The estimated annual generation of the Upper Bear Creek development would be 1.2 gigawatt-hours (GWh).

Lower Bear Creek Development

The Lower Bear Creek development would consist of the following existing facilities: (1) A reservoir with a surface area of 1.7 acre; (2) a 235-foot-long, 24-foot-high diversion structure with an integrated 82-foot-long, 24-foot-high ungated overflow spillway; (3) a powerhouse containing three 600-kW Pelton turbines; (4) two tailraces; and (5) a total of 4,350 feet of access roads. All of these facilities will be renovated or repaired. The Lower Bear Creek development would also consist of the following new facilities: (1) A 2,800-foot-long, 36-inch-diameter above-ground steel penstock routed through the existing penstock alignment; (2) a 4,000-kW Francis replacing the existing three Pelton turbines; (3) a 3.5-mile-long, 12.5-kV three-phase transmission line interconnecting with the Puget Sound Energy transmission lines at Lake Tyree; and (4) appurtenant facilities. The estimated annual generation of the Lower Bear Creek development would be 15 GWh.

Both developments would be operated as a run-of-river facilities and have no usable storage. The estimated total annual generation of the project would be 16.2 GWh.

Applicant Contact: Mr. Terrance Meyer, Liquid Sun Hydro, LLC, 55753 State Route 20, P.O. Box 205, Rockport, Washington 98283; phone: (785) 865-8758.

FERC Contact: Kelly Wolcott; phone: (202) 502-6480.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14678-000.

More information about this project, including a copy of the application, can be viewed or printed on the “eLibrary” link of Commission's Web site at http://www.ferc.gov/docs-filing/elibrary.asp. Enter the docket number (P-14678) in the docket number field to access the document. For assistance, contact FERC Online Support.

Dated: August 5, 2015.
Nathaniel J. Davis, Sr.,
Deputy Secretary.

[FR Doc. 2015-19694 Filed 8-10-15; 8:45 am]

BILLING CODE 6717-01-P